DEPARTMENT OF THE INTERIOR

National Park Service

Availability of Draft Environmental Impact Statement and General Management Plan for Minuteman Missile National Historic Site, South Dakota

SUMMARY: Pursuant to Section 102(2)(C) of the National Environment Policy Act of 1969, 42 U.S.C. 4332(2)(c), the National Park Service (NPS) announces the availability of a draft Environmental Impact Statement and General Management Plan (EIS/GMP) for Minuteman Missile National Historic Site, South Dakota.

DATES: The draft EIS/GMP will remain available for public review for 60 days following the publishing of the notice of its availability in the Federal Register by the U.S. Environmental Protection Agency. Public meetings will be held during the 60-day review period. You may submit your comments by any one of several methods. You may comment via the Internet through the NPS Planning, Environment, and Public Comment Web site (http://parkplanning.nps.gov); simply click on the link to Minuteman Missile National Historic Site. You may mail comments to Superintendent Mark Herberger, Minuteman Missile National Historic Site, 21280 South Dakota Highway 240, Philip, South Dakota 57567. You may contact the Superintendent by telephone at 605-433-5552 or by fax at 605-433-5558. Finally, you may hand-deliver comments to the Minuteman Missile National Historic Site headquarters at the address above.

ADDRESSES: Copies of the draft EIS/GMP are available from Superintendent Mark Herberger, Minuteman Missile National Historic Site, 21280 South Dakota Highway 240, Philip, South Dakota 57567.

SUPPLEMENTARY INFORMATION: This GMP will guide the management of the Minuteman Missile National Historic Site for the next 25 years. The draft GMP considers four draft conceptual alternatives—a no-action and three-action alternatives, including the NPS preferred alternative. The draft document will also include the NPS's preferred location for the visitor/administrative facility.

The NPS preferred alternative would be to present the Delta facilities as symbols that commemorate the Cold War. In this alternative, Delta One would be restored to its active duty alert condition with many original furnishings and items still in place. Guided ranger shuttle tours would be required to access this facility. The Delta Nine facility would remain as it is today. This would be a self-guided experience with parking and interpretive information located nearby.

The draft EIS assesses impacts to cultural resources (archaeological resources, historic buildings and structures, cultural landscapes, ethnographic resources, and museum collections); natural resources (air quality, vegetation, and wildlife); visitor use and experience; socioeconomic environment; and park administration and operations.

FOR FURTHER INFORMATION CONTACT: Contact Superintendent, Minuteman Missile National Historic Site, at the address or telephone number above. Before including your address, telephone number, electronic mail address, or other personal identifying information in your comments, you should be aware that your entire comment (including your personal identifying information) may be made publicly available at any time. While you can ask us in your comment to withhold your personal identifying information from public review, we cannot guarantee that we will be able to do so. We will make all submissions from organizations or businesses, from individuals identifying themselves as representatives or officials, or organizations or businesses available for public inspection in their entirety.

Dated: August 24, 2007.
Ernest Quintana,
Regional Director, Midwest Region.

Editorial Note: This document was received at the Office of the Federal Register on February 14, 2008.

[FR Doc. 08-763 Filed 2-19-08; 8:45 am]

BILLING CODE 4312-AE-M